DEPARTMENT OF TRANSPORTATION

Office of the Secretary of Transportation

[Docket No. DOT-OST-2014-0067]

Emergency Order Providing for Local Notification of High-Volume Rail Transport of Bakken Crude Oil

AGENCY: Office of the Secretary of Transportation (OST), DOT.

ACTION: Notice of issuance and availability of Emergency Order.

SUMMARY: On May 7, 2014, the U.S. Secretary of Transportation issued an Emergency Order (EO), that requires that each railroad operating trains containing more than 1,000,000 gallons of Bakken crude oil (approximately 35 tank cars) in a particular state to provide the State Emergency Response Commission notification regarding the expected movement of such trains through the counties in that state.

The full text of the EO can be accessed by going to www.regulations.gov and searching for docket number: DOT-OST-2014-0067.

FOR FURTHER INFORMATION CONTACT: For any questions regarding compliance with the EO, please contact the team at the Federal Railroad Administration's Office of Safety at (202) 493-6245. For questions concerning this notice of availability, contact: Brett Jortland, Deputy Assistant General Counsel, U.S. Department of Transportation, 1200 New Jersey Avenue SE., Washington, DC, 20590; telephone (202) 366-4723.

Issued in Washington, DC on May 9, 2014.
Kathryn Sinniger,
Assistant General Counsel.

[FR Doc. 2014-11068 Filed 5-9-14; 4:15 pm]

BILLING CODE 4910-9X-P